DEPARTMENT OF TRANSPORTATION

Federal Motor Carrier Safety Administration

[Docket No. FMCSA-2020-0007]

Qualification of Drivers; Exemption Applications; Vision

AGENCY: Federal Motor Carrier Safety Administration (FMCSA), DOT.

ACTION: Notice of denials.

SUMMARY: FMCSA announces its decision to deny applications from 51 individuals who requested an exemption from the vision standard in the Federal Motor Carrier Safety Regulations (FMCSRs) to operate a CMV in interstate commerce.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays. If you have questions regarding viewing materials in the docket, contact Docket Operations, (202) 366-9826.

SUPPLEMENTARY INFORMATION:

I. Public Participation

A. Viewing Documents and Comments

To view comments, as well as any documents mentioned in this notice as being available in the docket, go to http://www.regulations.gov/docket?D=FMCSA-2020-0007 and choose the document to review. If you do not have access to the internet, you may view the docket online by visiting the Docket Operations in Room W12-140 on the ground floor of the DOT West Building, 1200 New Jersey Avenue SE, Washington, DC 20590, between 9 a.m. and 5 p.m., ET, Monday through Friday, except Federal holidays. To be sure someone is there to help you, please call (202) 366-9317 or (202) 366-9826 before visiting Docket Operations.

B. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.transportation.gov/privacy.

II. Background

FMCSA received applications from 51 individuals who requested an exemption from the vision standard in the FMCSRs.

FMCSA has evaluated the eligibility of these applicants and concluded that granting these exemptions would not provide a level of safety that would be equivalent to, or greater than, the level of safety that would be obtained by complying with § 391.41(b)(10).

III. Basis for Exemption Determination

Under 49 U.S.C. 31136(e) and 31315(b), FMCSA may grant an exemption from the FMCSRs for no longer than a 5-year period if it finds such exemption would likely achieve a level of safety that is equivalent to, or greater than, the level that would be achieved absent such exemption. FMCSA grants exemptions from the FMCSRs for a 2-year period to align with the maximum duration of a driver's medical certification.

The Agency's decision regarding these exemption applications is based on medical reports about the applicants' vision, as well as their driving records and experience driving with the vision deficiency.

IV. Conclusion

The Agency has determined that these applicants do not satisfy the eligibility criteria or meet the terms and conditions of the Federal exemption and granting these exemptions would not provide a level of safety that would be equivalent to, or greater than, the level of safety that would be obtained by complying with § 391.41(b)(10). Therefore, the 51 applicants in this notice have been denied exemptions from the physical qualification standards in § 391.41(b)(10).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following two applicants did not have sufficient driving experience over the past three years under normal highway operating conditions:

Eddie M. Riddle (OH); and James Morris (WV)

The following 12 applicants had no experience operating a CMV:

David L. Prince (WV)

Zackery R. Burtch (OR)

Monesia Moore (NC)

Andrew I. Hogue (IN)

Sathe M. Hussein (MN)

Dustin T. Thompson (OH)

Logan W. Smith (TN)

Doc G. Madison (MI)

Morgan G. Kent (TX)

Daniel J. Jones (GA)

Evan J. Lambert (OH)

Joshua T. Hensley (KY)

The following six applicants did not have 3 years of experience driving a CMV on public highways with their vision deficiencies:

Curtis W. Hall (CT)

Steven T. Robinson (KY)

Timothy G. O'Shea (FL)

Jesus I. Gonzalez Gonzalez (IN)

Thomas A. Robinson (OH)

Luther B. Francois (NY)

The following three applicants did not have 3 years of recent experience driving a CMV on public highways with their vision deficiencies:

William C. Kelley (WI); Nathaniel L. Pittman (NC); and Jose O. Diaz Rosado (PA)

The following five applicants did not have sufficient driving experience over the past 3 years under normal highway operating conditions (gaps in driving record):

Mark A. Richardson (MD)

Mark Patricola (NJ)

Jamison W. Gourley (OH)

Jacob L. Boyer (MN)

Gregory J. Kuhn (NE)

The following applicant does not have verifiable proof of commercial driving experience over the past 3 years under normal highway operating conditions that would serve as an adequate predictor of future safe performance:

Irving Ibarez (IL)

The following 14 applicants were denied for multiple reasons:

William G. Gamble (IN)

Carlos E. Donahue (AR)

Todd A. Wasily (IN)

Blake V. Brooks (SD)

Anges R. Schultz (TX)

John C. Frye (PA)

Adam M. Frakes (KY)

Andy Fernandez (FL)

Mesha L. Rue (NM)

George R. Miller (PA)

Christopher A. Baxter (IL)

Benjamin J. Pasqualone (PA)

Reymondo Garcia (NV)

Robert E. Anglin (OH)

The following eight applicants drove interstate while restricted to intrastate driving:

Johnny Watson (GA)

Mike N. Uwainat (IL)

Henry E. Brown (IL)

Edgar Ramirez (NY)

Otis L. Tate (FL)

Carl R. Wakefield (WA)

Frederick A. Brown (DC)

Adriano De Vargas (MD)

Larry W. Minor,
Associate Administrator for Policy.

[FR Doc. 2020-07680 Filed 4-10-20; 8:45 am]

BILLING CODE 4910-EX-P